DEPARTMENT OF ENERGY

Federal Energy Regulatory Commission

[Project No. 3511-024]

Lower Saranac Hydro, LLC; Notice Soliciting Scoping Comments

Take notice that the following hydroelectric application has been filed with the Commission and is available for public inspection.

a. Type of Application: Subsequent Minor License.

b. Project No.: 3511-024.

c. Date filed: May 29, 2020.

d. Applicant: Lower Saranac Hydro, LLC.

e. Name of Project: Groveville Hydroelectric Project.

f. Location: On Fishkill Creek, in the City of Beacon, Dutchess County, New York. The project does not occupy any federal land.

g. Filed Pursuant to: Federal Power Act, 16 U.S.C. 791(a)-825(r).

h. Applicant Contact: Tim Carlsen, CEO, Hydroland, Inc.,¹ 403 Madison Ave. #240, Bainbridge Island, WA 98110; Phone at (844) 493-7612 or email at tim@hydrolandcorp.com.

¹ In a February 9, 2021 filing, the Commission was notified that Enel Green Power North America, Inc. transferred all its ownership interests for Lower Saranac Hydro, LLC to Hydroland, Inc.

i. FERC Contact: Jeremy Feinberg at (202) 502-6893 or jeremy.feinberg@ferc.gov.

j. Deadline for filing scoping comments: March 19, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3511-024.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The Groveville Hydroelectric Project consists of: (1) A 167-foot-long, 37-foot-high concrete gravity dam, with a 140-foot-long spillway having a crest elevation of 172.4 feet National Geodetic Vertical Datum of 1929 (NGVD29) and topped with 3-foot-high wooden flashboards; (2) an impoundment with a gross storage capacity of approximately 43 acre-feet and a surface area of 5 acres at a normal pool elevation of 175.4 feet NGVD29; (3) an intake structure with two gates and a 27-foot-high, 34-foot-wide trash rack; (4) a 9-foot-diameter, approximately 140-foot-long riveted steel underground penstock; (5) a powerhouse containing three fixed-output turbine-generator units with a total rated capacity of 927 kilowatts; (6) a 4-foot-high submerged stilling basin weir approximately 60 feet downstream of the dam spillway; (7) a 20-foot-wide, 90-foot-long tailrace; (8) a 20-foot-long underground generator lead connecting to a step-up transformer that connects to a 13.2-kilovolt, 40-foot-long underground transmission line that then connects to a 15-foot-long aerial transmission line before connecting to the regional grid; and (9) appurtenant facilities.

m. In addition to publishing the full text of this notice in the Federal Register, the Commission provides all interested persons an opportunity to view and/or print the contents of this notice, as well as other documents in the proceeding (e.g., scoping document) via the internet through the Commission's Home Page (http://www.ferc.gov), using the “eLibrary” link. Enter the docket number, excluding the last three digits in the docket number field to access the document (P-3511). At this time, the Commission has suspended access to the Commission's Public Reference Room due to the proclamation declaring a National Emergency concerning the Novel Coronavirus Disease (COVID-19), issued by the President on March 13, 2020. For assistance, contact FERC at FERCOnlineSupport@ferc.gov or call toll-free, (886) 208-3673 or (202) 502-8659 (TTY).

n. You may also register online at http://www.ferc.gov/docs-filing/esubscription.asp to be notified via email of new filings and issuances related to this or other pending projects. For assistance, contact FERC Online Support.

o. Scoping Process: The Commission staff intends to prepare an Environmental Assessment (EA) or Environmental Impact Statement (EIS) for the Groveville Hydroelectric Project in accordance with the National Environmental Policy Act (NEPA). The NEPA document will consider impacts and reasonable alternatives to the proposed action.

Commission staff does not propose to conduct any on-site scoping meetings at this time. Instead, we are soliciting comments, recommendations, and information, on the Scoping Document (SD) issued on February 17, 2021.

Copies of the SD outlining the subject areas to be addressed in the NEPA document were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

Dated: February 17, 2021.
Kimberly D. Bose,
Secretary.

[FR Doc. 2021-03681 Filed 2-22-21; 8:45 am]

BILLING CODE 6717-01-P